INTERNATIONAL TRADE COMMISSION

[Investigation Nos. 701-TA-721 and 731-TA-1689 (Final)]

Alkyl Phosphate Esters From China; Determinations

On the basis of the record ¹ developed in the subject investigations, the United States International Trade Commission (“Commission”) determines, pursuant to the Tariff Act of 1930 (“the Act”), that an industry in the United States is materially injured by reason of imports of alkyl phosphate esters from China provided for in subheading 2919.90.50 of the Harmonized Tariff Schedule of the United States, that have been found by the U.S. Department of Commerce (“Commerce”) to be sold in the United States at less than fair value (“LTFV”), and imports of the subject merchandise from China that have been found to be subsidized by the government of China.²

¹ The record is defined in § 207.2(f) of the Commission's Rules of Practice and Procedure (19 CFR 207.2(f)).

² 90 FR 17373 and 90 FR 17404 (April 25, 2025).

Background

The Commission instituted these investigations effective April 23, 2024, following receipt of petitions filed with the Commission and Commerce by ICL-IP America, Inc., St. Louis, Missouri. The final phase of the investigations was scheduled by the Commission following notification of preliminary determinations by Commerce that imports of alkyl phosphate esters from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 19, 2024 (89 FR 103877). The public hearing in connection with the investigations, originally scheduled for April 10, 2025, was cancelled.³

³ 90 FR 15576 (April 14, 2025).

The Commission made these determinations pursuant to sections 705(b) and 735(b) of the Act (19 U.S.C. 1671d(b) and 19 U.S.C. 1673d(b)). It completed and filed its determinations in these investigations on June 2, 2025. The views of the Commission are contained in USITC Publication 5628 (June 2025), entitled “Alkyl Phosphate Esters from China: Investigation Nos. 701-TA-721 and 731-TA-1689 (Final).”

By order of the Commission.
Issued: June 3, 2025.
Lisa Barton,
Secretary to the Commission.

[FR Doc. 2025-10313 Filed 6-5-25; 8:45 am]

BILLING CODE 7020-02-P